DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 23, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Intermediary Re-lending Program.

OMB Control Number: 0570-0021.

Summary of Collection: The Secretary of Agriculture is authorized by 7 U.S.C. 1936(b) to make or guarantee loans to eligible entities (Indian tribes, public agencies, cooperatives and nonprofit corporations) so that loans will be reloaned to individuals and entities for the purposes that predominantly serve communities in rural areas and promote community development, establish new businesses, establish and support microlending programs and create or retain employment opportunities. 7 CFR 4284, Subpart D contains regulations for filing applications for loans made by Rural Development (RD) under the Intermediary Relending Program (IRP) to eligible intermediaries and applies to borrowers and other parties involved in making such loans.

Need and Use of the Information: The information requested is necessary for RBS to process applications in a responsible manner, make prudent credit and program decisions, and effectively monitor the intermediaries' activities to protect the Government's financial interest and ensure that funds obtained from the Government are used appropriately. Various forms are used to include information to identify the intermediary, describe the intermediary's experience and expertise, describe how the intermediary will operate its revolving loan fund, provide for debt instruments, loan agreements, and security, and other material necessary for prudent credit decisions and reasonable program monitoring.

Description of Respondents: Not-for-profit institutions; Business or other for-profit.

Number of Respondents: 140.

Frequency of Responses: Reporting: On occasion.

Total Burden Hours: 11,790.

Rural Business Cooperative Service

Title: Rural Business Development Grants.

OMB Control Number: 0570-0070.

Summary of Collection: The Agricultural Act of 2014, Public Law 113-79 (2014 Farm Bill) (7 U.S.C. 1932(c)), authorized the Rural Business Development Grant (RBDG) program to facilitate the development of small and emerging private businesses, industries, and related employment as well as identifying and analyzing business opportunities, establishing business support centers, and providing training, technical assistance, and planning for improving the economy in rural communities. 7 CFR 4280, Subpart E is a Rural Business-Cooperative Service (RBS) regulation which covers the administration of this program, including eligibility requirements and evaluation criteria to make funding selection decisions. The reporting burden to be cleared with this request includes the submission of documentation to support selection priority points such as evidence of experience, commitment by other funding sources, evidence of loans that are needed, commitment by business of jobs created or saved, and evidence that the proposed project is covered by a plan; and reporting requirements after grant approval.

Need and Use of the Information: The various forms and narrative requirements contained within this regulation are collected from applicants who are public bodies and private nonprofit organizations, and Indian Tribes. This information is for determining such factors as: (1) eligibility; (2) the specific purposes for which grant funds will be utilized; (3) timeframes or dates by which actions surrounding the use of funds will be accomplished; (4) who will be carrying out the purposes for which the grant is made; (5) project priority; (6) applicants' experience in administering a rural economic development program; (7) employment improvement; and (8) mitigation of economic distress of a community through the creation or salvation of jobs or emergency situations.

Description of Respondents: Not-for-profit Institutions; Business or other for-profit.

Number of Respondents: 920.

Frequency of Responses: Reporting: Annually.

Total Burden Hours: 59,823.

Levi S. Harrell,
Departmental Information Collection Clearance Officer.

[FR Doc. 2022-23049 Filed 10-21-22; 8:45 am]

BILLING CODE 3410-XY-P